DEPARTMENT OF AGRICULTURE

Submission for OMB Review; Comment Request

January 25, 2021.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 1, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Annual Survey of Farmer Cooperatives.

OMB Control Number: 0570-0007.

Summary of Collection: The Rural Business Cooperative Service (RBS) was mandated the responsibility to acquire and disseminate information pertaining to agricultural cooperatives under the Cooperative Marketing Act of 1926: 7 U.S.C. 451-457 and Public Law 450. The primary objective of RBS is to promote understanding, use and development of the cooperative form of business as a viable option for enhancing the income of agricultural producers and other rural residents. The annual survey collects basic statistics on cooperative business volume, net income, members, financial status, employees, and other selected information to support RBS' objective and role. RBS will use a variety of forms to collect information.

Need and Use of the Information: RBS uses the annual survey of farmer cooperatives to collect basic statistics on cooperative business volume, net income, members, financial status, employees, and other selected information to support RBCS' objective and role. Cooperative statistics are published in an annual report and other formats for use by the U.S. Department of Agriculture, cooperative management and members, educators and researchers, other Federal agencies, cooperative trade associations, general agribusiness, cooperative development practitioners, students, teachers, consultants, and many others. By not collecting this information, the RBS would have difficulties in carrying out its policy on farmer cooperatives.

Description of Respondents: Business or other for-profit.

Number of Respondents: 1,037.

Frequency of Responses: Reporting: Annually.

Total Burden Hours: 792.

Levi S. Harrell,
Departmental Information Collection Clearance Officer.

[FR Doc. 2021-01930 Filed 1-28-21; 8:45 am]

BILLING CODE 3410-XY-P